DEPARTMENT OF THE INTERIOR

Minerals Management Service

Agency Information Collection Activities: Submitted for Office of Management and Budget (OMB) Review; Comment Request

AGENCY: Minerals Management Service (MMS), Interior.

ACTION: Notice of a new information collection (1010-NEW).

SUMMARY: To comply with the Paperwork Reduction Act of 1995 (PRA), we are notifying the public that we have submitted to OMB an information collection request (ICR) for review and approval of the paperwork requirements in the regulations under 30 CFR 250, Subpart I, Platforms and Structures, and related documents. This notice also provides the public a second opportunity to comment on the paperwork burden of these regulatory requirements.

DATES: Submit written comments by December 16, 2004.

ADDRESSES: You may submit comments either by fax (202) 395-6566 or email (OIRA_DOCKET@omb.eop.gov) directly to the Office of Information and Regulatory Affairs, OMB, Attention: Desk Officer for the Department of the Interior (1010-New). Mail or hand carry a copy of your comments to the Department of the Interior; Minerals Management Service; Attention: Rules Processing Team; Mail Stop 4024; 381 Elden Street; Herndon, Virginia 20170-4817. Interested parties may submit a copy of their comments on-line to MMS, the address is: https://ocsconnect.mms.gov. From the Public Connect “Welcome” screen, you will be able to either search for Information Collection 1010-New or select it from the “Projects Open For Comment” menu.

FOR FURTHER INFORMATION CONTACT: Cheryl Blundon, Rules Processing Team, (703) 787-1600. You may also contact Cheryl Blundon to obtain a copy, at no cost, of the regulations, and the Notice to Lessee (NTL) that require the subject collection of information.

SUPPLEMENTARY INFORMATION: Title: Assessment of Existing OCS Platforms Notice to Lessees (NTL).

OMB Control Number: 1010-New.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Specifically, the OCS Lands Act (43 U.S.C. 1356) requires the issuance of “* * * regulations which require that any vessel, rig, platform, or other vehicle or structure * * * (2) which is used for activities pursuant to this subchapter, comply * * * with such minimum standards of design, construction, alteration, and repair as the Secretary * * * establishes * * *” The OCS Lands Act (43 U.S.C. 1332(6)) also states, “operations in the [O]uter Continental Shelf should be conducted in a safe manner * * * to prevent or minimize the likelihood of * * * physical obstruction to other users of the water or subsoil and seabed, or other occurrences which may cause damage to the environment or to property, or endanger life or health.” These authorities and responsibilities are among those delegated to MMS under which we issue regulations to ensure that operations in the OCS will meet statutory requirements; provide for safety and protection of the environment; and result in diligent exploration, development, and production of OCS leases. This information collection request addresses the regulations at 30 CFR 250, Subpart I, Platforms and Structures.

The MMS OCS Regions use the information submitted under Subpart I to determine the structural integrity of all offshore structures and ensure that such integrity will be maintained throughout the useful life of these structures. We use the information to ascertain, on a case-by-case basis, that the platforms and structures are structurally sound and safe for their intended use to ensure safety of personnel and pollution prevention.

Currently, lessees are required to conduct these platform assessments and evaluations (API RP 2A-WSD, 21st edition, incorporated by reference April 21, 2003 (68 FR 193521), into 30 CFR 250.900(g)), but the regulations under Subpart I do not require lessees to submit the results to MMS. Therefore, with this information collection request, MMS is requesting the submission of the results of platform assessments and evaluations. Upon OMB approval of this collection, MMS will issue an NTL that requests lessees to submit their results of platform assessments and evaluations on a voluntary basis. MMS will use this information to verify that lessees have conducted assessments of existing platforms in an appropriate and timely manner to evaluate the risk of allowing existing platforms to finish their originally approved purposes; more specifically, we will use the information submitted through the NTL to:

• Verify that existing platforms comply with design criteria in accordance to API RP 2A-WSD (21st edition), “Recommended Practice For Planning, Designing, And Constructing Fixed Offshore Platforms—Working Stress Design,” and to evaluate the risk of allowing existing platforms to finish their originally approved purpose.

• Review reports that relate to framing patterns, soil data, exposure category, initiator data, assessment screening, design level analysis, and ultimate strength analysis.

• Review mitigation plans and platform applications for platforms that fail the ultimate strength analysis.

We will protect information from respondents considered proprietary under the Freedom of Information Act (5 U.S.C. 552) and its implementing regulations (43 CFR Part 2) and under regulations at 30 CFR 250.196, “Data and information to be made available to the public.” No items of a sensitive nature are collected. Submissions are voluntary.

Frequency: Submission occurs periodically based on assessment.

Estimated Number and Description of Respondents: Approximately 130 Federal OCS oil and gas or sulphur lessees.

Estimated Reporting and Recordkeeping “Hour” Burden: We estimate that the reporting burden for this collection is 113,528 burden hours. The oil and gas industry and MMS recognize that some existing platforms may not comply with the design criteria required for new platforms. Design criteria were developed to provide a way to evaluate the risk of allowing existing platforms to finish their originally approved purpose.The following discussion details the individual components and the respective hour burden estimates of this ICR. In calculating the burdens, we assumed that respondents perform certain requirements in the normal course of their activities. We consider these to be usual and customary and took that into account in estimating the burden.

• MMS estimates that 3,347 platforms in the Gulf of Mexico (GOM) OCS will require submittal of framing patterns, soil data, exposure category, initiator data, and the assessment screening and report. Estimate 24 hours per submittal. Total burden = 80,328 hours.

• MMS estimates that 400 platforms will fail the assessment screening and require a design level analysis and report. Estimate 50 hours per submittal. Total burden = 20,000 hours.

• MMS estimates that 200 platforms will fail the design level analysis and require an ultimate strength analysis and report. Estimate 48 hours per submittal. Total burden = 9,600 hours.

• MMS estimates that 100 platforms will fail the ultimate strength analysis and require mitigation and a platform application. Estimate 36 hours per submittal. Total burden = 3,600 hours.

• Program = 113,528 hours.

Estimated Reporting and Recordkeeping “Non-Hour Cost” Burden: We have identified no “non-hour cost” burdens associated with the collection of information.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “ * * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on August 17, 2004, we published a Federal Register notice (69 FR 51101) announcing that we would submit this ICR to OMB for approval. The notice provided the required 60-day comment period. We have received no comments in response to this notice. In addition, § 250.199 provides the OMB control number for the information collection requirements imposed by the 30 CFR 250 regulations. The regulation also informs the public that they may comment at any time on the collections of information and provides the address to which they should send comments.

If you wish to comment in response to this notice, you may send your comments to the offices listed under the ADDRESSES section of this notice. OMB has up to 60 days to approve or disapprove the information collection but may respond after 30 days. Therefore, to ensure maximum consideration, OMB should receive public comments by December 16, 2004.

Public Comment Policy: MMS's practice is to make comments, including names and addresses of respondents, available for public review during regular business hours. If you wish your name and/or address to be withheld, you must state this prominently at the beginning of your comment. MMS will honor this request to the extent allowable by law; however, anonymous comments will not be considered. All submissions from organizations or businesses, and from individuals identifying themselves as representatives or officials of organizations or businesses, will be made available for public inspection in their entirety.

MMS Information Collection Clearance Officer: Arlene Bajusz (202) 208-7744.

Dated: October 20, 2004.
E.P. Danenberger,
Chief, Engineering and Operations Division.

[FR Doc. 04-25331 Filed 11-15-04; 8:45 am]

BILLING CODE 4310-MR-P